DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective dates.

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or Assistant Director for Compliance, tel.: 202-622-2490.

SUPPLEMENTARY INFORMATION:

Electronic Availability

The SDN List and additional information concerning OFAC sanctions programs are available on OFAC's website (ofac.treasury.gov).

Notice of OFAC Action(s)

On March 12, 2024, OFAC determined that the property and interests in property subject to U.S. jurisdiction of the following persons are blocked under the relevant sanctions authority listed below:

Individuals

1. ALSHOFA, Ali Abdulnabi Ahmed Ebrahim M (a.k.a. AL-SHUFA, `Ali `Abd-al-Nabi), Iran; DOB 25 Jul 1991; nationality Bahrain; Gender Male; Secondary sanctions risk: section 1(b) of Executive Order 13224, as amended by Executive Order 13886; Passport 1934514 (Bahrain) expires 15 Apr 2019; National ID No. 910707480 (Bahrain) (individual) [SDGT] (Linked To: AL-ASHTAR BRIGADES).

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or service to or in support of, AL-ASHTAR BRIGADES, a person whose property and interests in property are blocked pursuant to E.O. 13224.

2. SALMAN, Isa Saleh Isa Mohamed (a.k.a. SALMAN, Isa Salih Isa Muhammad), Iran; DOB 30 May 1981; nationality Bahrain; Gender Male; Secondary sanctions risk: section 1(b) of Executive Order 13224, as amended by Executive Order 13886; Passport 2108802 (Bahrain) expires 16 May 2022 (individual) [SDGT] (Linked To: AL-ASHTAR BRIGADES).

Designated pursuant to section 1(a)(iii)(C) of E.O. 13224, as amended, for having materially assisted, sponsored, or provided financial, material, or technological support for, or goods or service to or in support of, AL-ASHTAR BRIGADES, a person whose property and interests in property are blocked pursuant to E.O. 13224.

3. SARHAN, Hasan Ahmed Radhi Husain (a.k.a. SARHAN, Hasan Ahmad Radi), Iran; DOB 11 Dec 1990; nationality Bahrain; Gender Male; Secondary sanctions risk: section 1(b) of Executive Order 13224, as amended by Executive Order 13886; Passport 1866849 (Bahrain) expires 28 Sep 2015; National ID No. 901206679 (Bahrain) (individual) [SDGT] (Linked To: AL-ASHTAR BRIGADES).

Designated pursuant to section 1(a)(iii)(C) of E.O. 13224, as amended, for having materially assisted, sponsored, or provided financial, material, or technological support for, or goods or service to or in support of, AL-ASHTAR BRIGADES, a person whose property and interests in property are blocked pursuant to E.O. 13224.

4. AL-DAMMAMI, Hussein Ahmad 'Abdallah Ahmad Hussein (a.k.a. HUSAIN, Husain Ahmed Abdulla Ahmed), Iran; Syria; DOB 16 Nov 1989; nationality Bahrain; Gender Male; Secondary sanctions risk: section 1(b) of Executive Order 13224, as amended by Executive Order 13886; Passport 1442486 (Bahrain) expires 01 Nov 2017 (individual) [SDGT] (Linked To: AL-ASHTAR BRIGADES).

Designated pursuant to section 1(a)(iii)(C) of E.O. 13224, as amended, for having materially assisted, sponsored, or provided financial, material, or technological support for, or goods or service to or in support of, AL-ASHTAR BRIGADES, a person whose property and interests in property are blocked pursuant to E.O. 13224.

Dated: March 12, 2024.
Bradley T. Smith,
Director, Office of Foreign Assets Control, U.S. Department of the Treasury.

[FR Doc. 2024-05620 Filed 3-15-24; 8:45 am]

BILLING CODE 4810-AL-P